DEPARTMENT OF ENERGY

Federal Energy Regulatory Commission

Combined Notice of Filings #1

Take notice that the Commission received the following electric corporate filings:

Docket Numbers: EC17-13-000.

Applicants: ITC Midwest LLC.

Description: Application of ITC Midwest LLC for Approval of Acquisition of Assets Pursuant to Section 203 of the Federal Power Act.

Filed Date: 10/17/16.

Accession Number: 20161017-5036.

Comments Due: 5 p.m. ET 11/7/16.

Take notice that the Commission received the following exempt wholesale generator filings:

Docket Numbers: EG17-13-000.

Applicants: ESS Snook Project, LLC.

Description: Notice of Self-Certification of Exempt Wholesale Generator Status of ESS Snook Project, LLC.

Filed Date: 10/14/16.

Accession Number: 20161014-5145.

Comments Due: 5 p.m. ET 11/4/16.

Take notice that the Commission received the following electric rate filings:

Docket Numbers: ER16-1637-001.

Applicants: UIL Distributed Resources, LLC.

Description: Report Filing: Supplement to Refund Report to be effective N/A.

Filed Date: 10/14/16.

Accession Number: 20161014-5165.

Comments Due: 5 p.m. ET 11/4/16.

Docket Numbers: ER17-79-001.

Applicants: Portland General Electric Company.

Description: Compliance filing: Errata to Combined Order 827 and 828 Compliance Filing to be effective 10/14/2016.

Filed Date: 10/14/16.

Accession Number: 20161014-5118.

Comments Due: 5 p.m. ET 11/4/16.

Docket Numbers: ER17-96-001.

Applicants: ISO New England Inc.

Description: Tariff Amendment: Part 2 of Two-Part Filing to Update Eff Date of Accepted Demand Response Changes to be effective 6/1/2018.

Filed Date: 10/14/16.

Accession Number: 20161014-5116.

Comments Due: 5 p.m. ET 11/4/16.

Docket Numbers: ER17-104-000.

Applicants: Broadview Energy KW, LLC.

Description: Baseline eTariff Filing: Application for Market-Based Rate Tariff and Waivers to be effective 12/1/2016.

Filed Date: 10/14/16.

Accession Number: 20161014-5154.

Comments Due: 5 p.m. ET 11/4/16.

Docket Numbers: ER17-105-000.

Applicants: Broadview Energy JN, LLC.

Description: Baseline eTariff Filing: Application for Market-Based Rate Tariff and Waivers to be effective 12/1/2016.

Filed Date: 10/14/16.

Accession Number: 20161014-5157.

Comments Due: 5 p.m. ET 11/4/16.

Docket Numbers: ER17-106-000.

Applicants: Broadview Energy KW, LLC.

Description: § 205(d) Rate Filing: Common Facilities Agreement to be effective 12/1/2016.

Filed Date: 10/14/16.

Accession Number: 20161014-5162.

Comments Due: 5 p.m. ET 11/4/16.

Docket Numbers: ER17-107-000.

Applicants: Southwest Power Pool, Inc.

Description: Compliance filing: Orders 827 and 828 Compliance Filing Revising GIA Proforma to be effective 9/21/2016.

Filed Date: 10/14/16.

Accession Number: 20161014-5175.

Comments Due: 5 p.m. ET 11/4/16.

Docket Numbers: ER17-108-000.

Applicants: PJM Interconnection, L.L.C.

Description: Compliance filing: PJM Submits Compliance Filing re: RM16-1-000 and RM16-8-000 Order 827 and 828 to be effective 11/1/2016.

Filed Date: 10/14/16.

Accession Number: 20161014-5178.

Comments Due: 5 p.m. ET 11/4/16.

Docket Numbers: ER17-109-000.

Applicants: Alcoa Power Generating Inc.

Description: Compliance filing: Yadkin Division Order Nos. 827 and 828 Compliance Filing to be effective 10/14/2016.

Filed Date: 10/14/16.

Accession Number: 20161014-5180.

Comments Due: 5 p.m. ET 11/4/16.

Docket Numbers: ER17-110-000.

Applicants: California Independent System Operator Corporation.

Description: § 205(d) Rate Filing: 2016-10-14 Aliso Canyon Phase 2 Enhancements to be effective 11/30/2016.

Filed Date: 10/14/16.

Accession Number: 20161014-5183.

Comments Due: 5 p.m. ET 10/24/16.

Docket Numbers: ER17-111-000.

Applicants: Black Hills Power, Inc.

Description: Compliance filing: Order Nos. 827 and 828 Compliance Filing to be effective 10/14/2016.

Filed Date: 10/14/16.

Accession Number: 20161014-5188.

Comments Due: 5 p.m. ET 11/4/16.

Docket Numbers: ER17-112-000.

Applicants: Black Hills/Colorado Electric Utility Company, LP.

Description: Compliance filing: Order Nos. 827 and 828 Compliance Filing to be effective 10/14/2016.

Filed Date: 10/14/16.

Accession Number: 20161014-5189.

Comments Due: 5 p.m. ET 11/4/16.

Docket Numbers: ER17-113-000.

Applicants: Cheyenne Light, Fuel and Power Company.

Description: Compliance filing: Order Nos. 827 and 828 Compliance Filing to be effective 10/14/2016.

Filed Date: 10/14/16.

Accession Number: 20161014-5191.

Comments Due: 5 p.m. ET 11/4/16.

Docket Numbers: ER17-114-000.

Applicants: California Independent System Operator Corporation.

Description: Compliance filing: 2016-10-14 Compliance Order No. 827 and 828 to be effective 9/21/2016.

Filed Date: 10/14/16.

Accession Number: 20161014-5193.

Comments Due: 5 p.m. ET 11/4/16.

Docket Numbers: ER17-115-000.

Applicants: Wisconsin Electric Power Company.

Description: § 205(d) Rate Filing: Wisconsin Electric—UMERC Wholesale Distribution Agreement Rate Schedule 136 to be effective 1/1/2017.

Filed Date: 10/17/16.

Accession Number: 20161017-5044.

Comments Due: 5 p.m. ET 11/7/16.

Take notice that the Commission received the following electric securities filings:

Docket Numbers: ES17-4-000.

Applicants: Mid-Atlantic Interstate Transmission, LLC.

Description: Application of Mid-Atlantic Interstate Transmission, LLC for Authorization Under Section 204 of the Federal Power Act, et al.

Filed Date: 10/14/16.

Accession Number: 20161014-5210.

Comments Due: 5 p.m. ET 11/4/16.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 17, 2016.
Nathaniel J. Davis, Sr.,
Deputy Secretary.

[FR Doc. 2016-25514 Filed 10-20-16; 8:45 am]

BILLING CODE 6717-01-P